INTERNATIONAL TRADE COMMISSION

Sunshine Act Meeting

Agency Holding the Meeting: United States International Trade Commission.

Time and Date: November 6, 2000 at 2:00 p.m.

Place: Room 101, 500 E Street S.W., Washington, DC 20436, Telephone: (202) 205-2000.

Status: Open to the public.

Matters to be Considered: 1. Agenda for future meeting: none.

2. Minutes.

3. Ratification List.

4. Inv. No. 731-TA-891 (Preliminary) (Foundry Coke from China)—briefing and vote. (The Commission is currently scheduled to transmit its determination to the Secretary of Commerce on November 6, 2000; Commissioners' opinions are currently scheduled to be transmitted to the Secretary of Commerce on November 14, 2000.)

5. Outstanding action jackets: none.

In accordance with Commission policy, subject matter listed above, not disposed of at the scheduled meeting, may be carried over to the agenda of the following meeting.

Issued: October 26, 2000.
By order of the Commission.
Donna R. Koehnke,
Secretary.

[FR Doc. 00-28018 Filed 10-27-00; 1:47 pm]

BILLING CODE 7020-02-P